NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that 10 meetings of the Humanities Panel will be held during September 2012 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See Supplementary Information section for meeting room numbers.

FOR FURTHER INFORMATION CONTACT: Lisette Voyatzis, Committee Management Officer, 1100 Pennsylvania Ave., NW., Room, 529, Washington, DC 20506, or call (202) 606-8322. Hearing-impaired individuals are advised that information on this matter may be obtained by contacting the National Endowment for the Humanities' TDD terminal at (202) 606-8282.

SUPPLEMENTARY INFORMATION:

Meetings:

1. Date: September 6, 2012.

Time: 8:30 a.m. to 5:00 p.m.

Room: 415. This meeting will discuss applications for the Preservation and Access Research and Development grant program, submitted to the Division of Preservation and Access.

2. Date: September 6, 2012.

Time: 8:30 a.m. to 5:00 p.m.

Room: 421. This meeting will discuss applications for the Bridging Cultures Through Film grant program on the subject of Africa and the Mideast, submitted to the Division of Public Programs.

3. Date: September 6, 2012.

Time: 8:30 a.m. to 5:00 p.m.

Room: 315. This meeting will discuss applications for the Humanities Initiatives at Historically Black Colleges and Universities (HBCUs) grant program, submitted to the Division of Education Programs.

4. Date: September 10, 2012.

Time: 8:30 a.m. to 5:00 p.m.

Room: 421. This meeting will discuss applications for the Bridging Cultures Through Film grant program on the subject of Asia, submitted to the Division of Public Programs.

5. Date: September 10, 2012.

Time: 8:30 a.m. to 5:00 p.m.

Room: 315. This meeting will discuss applications for the Humanities Initiatives at Historically Black Colleges and Universities (HBCUs) grant program, submitted to the Division of Education Programs.

6. Date: September 11, 2012

Time: 8:30 a.m. to 5:00 p.m.

Room: 315 This meeting will discuss applications for the Humanities Initiatives at Tribal Colleges and Universities (TCUs) grant program, submitted to the Division of Education Programs.

7. Date: September 11, 2012.

Time: 8:30 a.m. to 5:00 p.m.

Room: Room 421. This meeting will discuss applications for the Bridging Cultures Through Film grant program on the subject of Europe, submitted to the Division of Public Programs.

8. Date: September 13, 2012.

Time: 8:30 a.m. to 5:00 p.m.

Room: Room 421. This meeting will discuss applications for the Bridging Cultures Through Film grant program on the subject of the Americas, submitted to the Division of Public Programs.

9. Date: September 20, 2012.

Time: 8:30 a.m. to 5:00 p.m.

Room: 315. This meeting will discuss applications for the Bridging Cultures at Community Colleges: Request for Proposals for a Cooperative Agreement program, submitted to the Division of Education Programs.

10. Date: September 21, 2012.

Time: 8:30 a.m. to 5:00 p.m.

Room: 315. This meeting will discuss applications for the Bridging Cultures at Community Colleges: Request for Proposals for a Cooperative Agreement program, submitted to the Division of Education Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: August 9, 2012.
Lisette Voyatzis,
Committee Management Officer.

[FR Doc. 2012-19899 Filed 8-13-12; 8:45 am]

BILLING CODE 7536-01-P